DEPARTMENT OF DEFENSE

Office of the Secretary

Preparation of a Final Supplemental Environmental Impact Statement for the Airborne Laser program

AGENCY: Missile Defense Agency, DoD.

ACTION: Notice of availability.

SUMMARY: The Missile Defense Agency (MDA) announces the availability of a Final Supplemental Environmental Impact Statement (FSEIS) for the Airborne Laser (ABL) Program. This FSEIS supplements the Final Environmental Impact Statement (FEIS) for the Program Definition and Risk Reduction Phase of the ABL test program, completed in April 1997. The FSEIS analyzes proposed ABL Program test activities at test ranges associated with Kirtland Air Force Base (AFB) and White Sands Missile Range (WSMR)/Holloman AFB, New Mexico; and Edwards AFB (EAFB) and Vandenberg AFB (VAFB), California. The FSEIS has been prepared in accordance with the National Environmental Policy Act (NEPA), as amended (42 U.S.C. 4321, et seq.), and the Council on Environmental Quality Regulations for implementing the procedural provisions of NEPA (40 CFR Parts 1500-1508). The ABL is a laser weapon system installed on a Boeing 747-400F aircraft capable of operating for extended periods of time. Up to two such aircraft would be developed for testing purposes.

DATES: Comments must be received by July 16, 2003.

ADDRESSES: to obtain a copy of the FSEIS please write to: Mr. Charles J. Brown, Environmental Coordinator, Project Execution Division, Headquarters, Air Force Center for Environmental Excellence, 3207 Sidney Brooks Road, Building 532, Brooks AFB, TX 78235-5363 or a copy of it can also be accessed at http://www.afcee.brooks.af.mil/ec/eiap/eis/abl/ABL_F-SEIS_Apr_03.pdf.

Individuals or organizations may provide comments on the FSEIS by sending written comments to: Ms. Pamelia Bain, Director, Legislative Affairs, Missile Defense Agency, 7100 Defense Pentagon, Washington, DC 20301-7100.

FOR FURTHER INFORMATION CONTACT: Mr. Crate J. Spears, (703) 697-4123.

SUPPLEMENTARY INFORMATION: The ABL weapon system would include four lasers:

• Active Ranging System (ARS) Laser: a small carbon dioxide laser used to begin tracking a target,

• Track Illuminator Laser (TILL): a solid state laser used to provide detailed tracking of a target,

• Beacon Illuminator Laser (BILL): a solid state laser used to measure atmospheric distortion, and

• High-Energy Laser (HEL): the Chemical Oxygen-Iodine Laser (COIL) used to destroy a target.

An additional laser, a surrogate for the High-Energy Laser (SHEL), would be used during testing in place of the HEL. The SHEL is a low-power solid-state laser that would be used in both ground- and flight-testing. The ABL also would include Infrared Search and Track (IRST) sensors, passive infrared devices used to identify a heat source.

The 1997 ABL FEIS analyzed use of a COIL HEL on an aircraft to destroy ballistic missiles in the boost phase. The Record of Decision (ROD) for the FEIS documented the Air Force's decision to proceed with ABL home base activities at EAFB, diagnostic test activities over WSMR, and expanded area test activities at VAFB and the adjacent Point Mugu Naval Air Warfare Center, California. Since completion of the FEIS, specific proposed test activities have been identified and additional information made available about the proposed testing that warranted preparation of a Supplemental Environmental Impact Statement (SEIS).

Dated: June 6, 2003.
Patricia L. Toppings,
Alternate OSD Federal Register Liaison Officer, Department of Defense.

[FR Doc. 03-15034 Filed 6-13-03; 8:45 am]

BILLING CODE 5001-08-M